ENVIRONMENTAL PROTECTION AGENCY

40 CFR Part 257

[EPA-HQ-OLEM-2017-0613; FRL-9974-49-OLEM]

Oklahoma: Approval of Coal Combustion Residuals State Permit Program; Extension of Comment Period

AGENCY: Environmental Protection Agency (EPA).

ACTION: Notice of availability; extension of comment period.

SUMMARY: The Environmental Protection Agency (EPA or the Agency) is extending the comment period on EPA's proposal to approve Oklahoma's Coal Combustion Residuals (CCR) State Permit Program. The notice announcing this proposed approval was published on January 16, 2018, and the public comment period was scheduled to end on March 2, 2018. However, a number of public interest groups have requested additional time to review Oklahoma's application for a CCR State Permit Program and to develop and submit comments. Therefore, in response to the request for additional time, EPA is extending the comment period, so that comments are now due on or before March 19, 2018.

DATES: Comments on the notice of availability published January 16, 2018 (83 FR 2100) must be received on or before March 19, 2018.

ADDRESSES: Submit your comments, identified by Docket ID No. EPA-HQ-OLEM-2017-0613; Title: Oklahoma: Approval of Coal Combustion Residuals State Permit Program at https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud or other file sharing system). For additional submission methods, the full EPA public comment policy, information about CBI or multimedia submissions, and general guidance on making effective comments, please visit https://www.epa.gov/dockets/commenting-epa-dockets.

FOR FURTHER INFORMATION CONTACT: Mary Jackson, Materials Recovery and Waste Management Division, Office of Resource Conservation and Recovery, Mail code 5304P, U.S. Environmental Protection Agency, 1200 Pennsylvania Avenue NW, Washington, DC 20460; telephone number: (703) 308-8453; email address: jackson.mary@epa.gov.

SUPPLEMENTARY INFORMATION: EPA is proposing to approve Oklahoma's CCR state permit program application, pursuant to RCRA 4005(d)(1)(B). If approved, the Oklahoma Department of Environmental Quality (ODEQ)'s permit program would operate “in lieu of” the federal CCR program, codified at 40 CFR part 257, subpart D.

On July 31, 2017 Oklahoma submitted to EPA its initial application. The State supplemented its original application on October 18, 2017. EPA determined that the application was complete and notified Oklahoma of its determination by letter dated December 21, 2017.

The statute requires EPA to evaluate two components of a state program to determine whether it meets the standard for approval. First, EPA is to evaluate the adequacy of the permit program (or other system of prior approval and conditions) itself. See 42 U.S.C. 6945(d)(1)(A). Second, EPA is to evaluate the adequacy of the technical criteria that will be included in each permit, to determine whether they are the same as the federal criteria, or to the extent they differ, whether the modified criteria are “at least as protective as” the federal requirements. See 42 U.S.C. 6945(d)(1)(B). Only if both components meet the statutory requirements may EPA approve the program. See 42 U.S.C. 6945(d)(1).

On that basis, EPA conducted an analysis of ODEQ's application, including a thorough analysis of OAC 252:517 and its adoption of 40 CFR part 257, subpart D. Based on this analysis, EPA has preliminarily determined that ODEQ's submitted CCR permit program meets the standard for approval in section 4005(d)(1)(A) and (B). EPA is therefore proposing to approve Oklahoma's application. Oklahoma's program contains all the elements of the federal rule, including requirements for location restrictions, design and operating criteria, groundwater monitoring and corrective action, closure requirements and post-closure care, recordkeeping, notification and internet posting requirements. It also contains state-specific language, references and state-specific requirements that differ from the federal rule, which EPA has preliminarily determined to be at least as protective as the federal criteria. EPA's analysis and preliminary findings are available in the docket supporting this proposed action.

The notice announcing the proposed approval of Oklahoma's application was published on January 16, 2018, and the comment period was scheduled to end on March 2, 2018. See 83 FR 2100. Since publication of the notice, a number of stakeholders have requested additional time to review Oklahoma's application and to develop and submit comments. Therefore, after considering this request for additional time, EPA has decided to extend the comment period until March 19, 2018.

Dated: February 8, 2018.
Barry N. Breen,
Principal Deputy Assistant Administrator, Office of Land and Emergency Management.

[FR Doc. 2018-03274 Filed 2-16-18; 8:45 am]

BILLING CODE 6560-50-P